FEDERAL MINE SAFETY AND HEALTH REVIEW COMMISSION

29 CFR Part 2700

Procedural Rules To Permit Parties To File and Serve Documents Electronically; Correction

AGENCY: Federal Mine Safety and Health Review Commission.

ACTION: Interim rule with request for comments; correction.

SUMMARY: The Federal Mine Safety and Health Review Commission is correcting an interim rule that appeared in the Federal Register of December 23, 2013 (78 FR 77354). The correction adds a conforming change indicating that only original documents need be filed pursuant to § 2700.75.

DATES: Effective January 22, 2014.

FOR FURTHER INFORMATION CONTACT: Michael A. McCord, General Counsel, Office of the General Counsel, Federal Mine Safety and Health Review Commission, at (202) 434-9935 or mmccord@fmshrc.gov.

SUPPLEMENTARY INFORMATION: In FR Doc. 2013-29842 appearing on page 77354 in the Federal Register of Monday, December 23, 2013, the following corrections are made:

§ 2700.75 [Corrected]

1. On page 77359, in the second column, in § 2700.75 Briefs, correct instruction 13 and amendments to § 2700.75 to read as follows:

13. Section 2700.75 is amended by revising paragraphs (f) and (g) to read as follows:

§ 2700.75 Briefs.

* * * * *

(f) Motion for leave to exceed page limit. A motion requesting leave to exceed the page limit for a brief shall be received not less than 3 days prior to the date the brief is due to be filed, shall state the total number of pages proposed, and shall comply with § 2700.10. Filing of a motion requesting an extension of page limit is effective upon receipt. The motion and any statement in opposition shall include proof of service on all parties by a means of delivery no less expeditious than that used for filing the motion, except that if service by electronic transmission (email) is impossible, the filing party must serve in person, by third party commercial carrier, or by facsimile transmission, resulting in same-day delivery.

(g) Number of copies. Unless otherwise ordered or stated in this part, only the original of a document shall be filed.

* * * * *

Dated: January 13, 2014.
Mary Lu Jordan,
Chairman, Federal Mine Safety and Health Review Commission.

[FR Doc. 2014-00831 Filed 1-16-14; 8:45 am]

BILLING CODE 6735-01-P